DEPARTMENT OF HOMELAND SECURITY

Coast Guard

33 CFR Part 117

[Docket No. USCG-2015-0343]

RIN 1625-AA09

Drawbridge Operation Regulation; Atlantic Intracoastal Waterway, Little River to Savannah River, Beaufort, SC

AGENCY: Coast Guard, DHS.

ACTION: Final rule.

SUMMARY: The Coast Guard is modifying the operating schedule that governs the Lady's Island Bridge, across the Beaufort River, Mile 536.0 at Beaufort, SC. This modification allows Lady's Island Bridge to remain closed during peak vehicular traffic times. The bridge owner, South Carolina Department of Transportation, requested this action to assist in reducing traffic caused by bridge openings.

DATES: This rule is effective October 5, 2017.

ADDRESSES: To view documents mentioned in this preamble as being available in the docket, go to http://www.regulations.gov, type USCG-2015-0343 In the “SEARCH” box and click “SEARCH.” Click on Open Docket Folder on the line associated with this rulemaking.

FOR FURTHER INFORMATION CONTACT: If you have questions on this rule, call or e-mail Ms. Jennifer Zercher at telephone 305-415-6740, email jennifer.n.zercher@uscg.mil.

SUPPLEMENTARY INFORMATION:

I. Table of Abbreviations

CFR Code of Federal Regulations

DHS Department of Homeland Security

FR Federal Register

NPRM Notice of proposed rulemaking

SNPRM Supplemental notice of proposed rulemaking

Pub. L. Public Law

§ Section

U.S.C. United States Code

WWM Waterways Management

II. Background Information and Regulatory History

On May 10, 2016, we published a notice of proposed rulemaking (NPRM) entitled Drawbridge Operation Regulation; Atlantic Intracoastal Waterway, Little River to Savannah River in the Federal Register (81 FR 90). We received eight comments on this rule.

On August 5th, 2015, a Temporary Deviation, entitled, “Drawbridge Operation Regulations: Atlantic Intracoastal Waterway, Little River to Savannah River,” was published in the Federal Register [USCG-2015-0343] [80 FR 46492] to evaluate whether changing the bridge opening schedule would assist in reducing traffic congestion. This deviation was in effect through November 3rd, 2015.

III. Legal Authority and Need for Rule

The Coast Guard is issuing this rule under authority in 33 U.S.C. 499.

The Lady's Island Bridge in Beaufort, South Carolina has a vertical clearance of 30 feet at Mean High Water in the closed position. The existing drawbridge schedule can be found in 33 CFR 117.911(f).

On February 17th, 2015, Coast Guard Sector Charleston Waterways Management (WWM) staff observed the Lady's Island Bridge operations between the hours of 6 a.m. and 10 a.m. During the observation period, the staff discussed potential changes with the Bridge owner, South Carolina Department of Transportation. Additionally, WWM met with the Beaufort County South Carolina traffic manager to discuss bridge opening impacts.

IV. Discussion of Comments, Changes and the Final Rule

The Coast Guard received eight comments regarding this rule. One person supported this change. One person requested that something should be done about the decibels of the horn on this bridge. This comment has been forwarded to the Bridge Owner to address. Six people are against changing the bridge schedule as being too restrictive to vessel traffic. While the Coast Guard does agree that changing this bridge regulation will be more restrictive to the boating community, based on observations, this change will be a better balance between land and water traffic.

The Coast Guard is amending 33 CFR 117.911(f). This regulation would modify timeframes the bridge may remain closed. It would extend the morning closure period, when the bridge is authorized to remain closed, by an additional half hour and the afternoon closure period by an additional hour. It would also set an hourly opening schedule between 9 a.m. and 3 p.m. when the Bridge will open on the hour, thereby reducing openings from twice an hour to once an hour during daytime hours, Monday through Friday, except Federal holidays. This regulation would reduce vehicle backups without unreasonably restricting vessel traffic, thereby balancing the needs of both modes of transportation. No changes to the existing regulation will be implemented during the months of April, May, October and November because higher vessel traffic volumes exist during these time periods. At all other times, this bridge will open on signal.

V. Regulatory Analyses

We developed this rule after considering numerous statutes and Executive Orders related to rulemaking. Below we summarize our analyses based on a number of these statutes and Executive Orders, and we discuss First Amendment rights of protesters.

A. Regulatory Planning and Review

Executive Orders 12866 and 13563 direct agencies to assess the costs and benefits of available regulatory alternatives and, if regulation is necessary, to select regulatory approaches that maximize net benefits. Executive Order 13771 directs agencies to control regulatory costs through a budgeting process. This rule has not been designated a “significant regulatory action,” under Executive Order 12866. Accordingly, it has not been reviewed by the Office of Management and Budget (OMB) and pursuant to OMB guidance it is exempt from the requirements of Executive Order 13771.

This regulatory action determination is based on the ability that vessels can still transit the bridge during scheduled openings. Additionally, the modified schedule will not apply during April, May, October, and November when transient season increases vessel traffic.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities.

While some owners or operators of vessels intending to transit the bridge may be small entities, for the reasons stated in section V.A above this final rule would not have a significant economic impact on any vessel owner or operator.”

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01 and Commandant Instruction M16475.lD, which guides the Coast Guard in complying with the National Environmental Policy Act of 1969 (NEPA)(42 U.S.C. 4321-4370f), and have made a determination that this action is one of a category of actions which do not individually or cumulatively have a significant effect on the human environment. This rule simply promulgates the operating regulations or procedures for drawbridges. This action is categorically excluded from further review, under figure 2-1, paragraph (32)(e), of the Instruction.

A preliminary Record of Environmental Consideration and a Memorandum for the Record are not required for this rule.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. In § 117.911, revise paragraph (f) to read as follows:

§ 117.911 Atlantic Intracoastal Waterway, Little River to Savannah River.

* * * * *

(f) The Lady's Island Bridge (Woods Memorial), across the Beaufort River, Mile 536.0 at Beaufort. The draw shall operate as follows:

(1) On Monday through Friday, except Federal holidays:

(i) From 6:30 a.m. to 9 a.m. and 3 p.m. to 6 p.m., the draw need not open to navigation; and,

(ii) Between 9 a.m. to 3 p.m., the draw need open only on the hour.

(2) During the months of April, May, October, and November from Monday through Friday, except Federal holidays, the Lady's Island Bridge (Woods Memorial) shall operate as follows:

(i) From 7 a.m. to 9 a.m. and 4 p.m. to 6 p.m., the draw need not open to navigation; and,

(ii) Between 9 a.m. to 4 p.m., the draw need open only on the hour and half-hour.

(3) At all other times the draw shall open on signal.

Dated: August 22, 2017.
Peter J. Brown,
Rear Admiral, U.S. Coast Guard, Commander, Seventh Coast Guard District.

[FR Doc. 2017-18709 Filed 9-1-17; 8:45 am]

BILLING CODE 9110-04-P